DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before June 25, 2009. Address written comments to Statutory Import Programs Staff, Room 3720, U.S. Department of Commerce, Washington, D.C. 20230. Applications may be examined between 8:30 A.M. and 5:00 P.M. at the U.S. Department of Commerce in Room 3720.

Docket Number: 09-015. Applicant: U.S. Food and Drug Administration, Center for Food Safety and Applied Nutrition, 8301 MuirKirk Rd., Laurel, MD 20708. Instrument: Electron Microscope. Manufacturer: JEOL, Japan. Intended Use: This instrument will be used to study microorganisms and/or tissues colonized with microorganisms. It will also be used to study biological specimens with biological fixatives. Justification for Duty-Free Entry: No instrument of the same general category is manufactured within the United States. Application accepted by Commissioner of Customs: April 6, 2009.

Docket Number: 09-023. Applicant: Florida State University, Department of Biology, 119 Biology Unit I, 4370, 89 Chieftan Way, Tallahassee, FL 32306. Instrument: Electron Microscope. Manufacturer: FEI Company, the Netherlands. Intended Use: The instrument will be used to perform research projects that require 3-D imaging capabilities and cryogenic imaging capabilities. Justification for Duty-Free Entry: No instrument of the same general category is manufactured within the United States. Application accepted by Commissioner of Customs: April 30, 2009.

Docket Number: 09-024. Applicant: National Institutes of Health, 33 North Dr., BG 33 Room BE11B MSC 3210, Bethesda, Maryland 20895-3210. Instrument: Electron Microscope. Manufacturer: FEI Company, the Netherlands. Intended Use: The instrument will be used understand and characterize the structure and function of the vaccinia virus. Justification for Duty-Free Entry: No instrument of the same general category is manufactured within the United States. Application accepted by Commissioner of Customs: April 30, 2009.

Docket Number: 09-025. Applicant: University of Virginia, Department of Molecular Physiology and Biological Physics, PO Box 800736, 1340 Jefferson Park Avenue, Charlottesville, VA 22908. Instrument: Electron Microscope. Manufacturer: FEI Company, Czech Republic. Intended Use: The instrument will be used to study the structures of proteins, macromolecular complexes and viruses. Justification for Duty-Free Entry: No instrument of the same general category is manufactured within the United States. Application accepted by Commissioner of Customs: May 7, 2009.

Docket Number: 09-026. Applicant: Yale University School of Medicine, 333 Cedar St., SHM C-206, New Haven, CT 06520. Instrument: Electron Microscope. Manufacturer: FEI Company, the Netherlands. Intended Use: The instrument will be used to identify and characterize cell and subcellular structures as well as inorganic material. Specifically, it will be used to provide imaging of neurons, synapses and growth cones, membranes and membrane traffic, the cell cytoskeleton and other man-made materials. Justification for Duty-Free Entry: No instrument of the same general category is manufactured within the United States. Application accepted by Commissioner of Customs: May 13, 2009.

Dated: June 1, 2009.
Christopher Cassel,
Acting Director, IA Subsidies Enforcement Office.

[FR Doc. E9-13189 Filed 6-4-09; 8:45 am]

BILLING CODE 3510-DS-S